DEPARTMENT OF ENERGY

Federal Energy Regulatory Commission

[Docket No. IC09-567-001]

Commission Information Collection Activities (FERC-567); Comment Request; Submitted for OMB Review

April 22, 2009.

AGENCY: Federal Energy Regulatory Commission, DOE.

ACTION: Notice.

SUMMARY: In compliance with the requirements of section 3507 of the Paperwork Reduction Act of 1995, 44 U.S.C. 3507, the Federal Energy Regulatory Commission (Commission or FERC) has submitted the information collection described below to the Office of Management and Budget (OMB) for review of the information collection requirements. Any interested person may file comments directly with OMB and should address a copy of those comments to the Commission as explained below. The Commission received no comments in response to the Federal Register notice (73 FR 74163, 12/5/2008) and has made this notation in its submission to OMB.

DATES: Comments on the collection of information are due by May 28, 2009.

ADDRESSES: Address comments on the collection of information to the Office of Management and Budget, Office of Information and Regulatory Affairs, Attention: Federal Energy Regulatory Commission Desk Officer. Comments to OMB should be filed electronically, c/o oira__submission@omb.eop.gov and include OMB Control No. 1902-0005 as a point of reference. The OMB Desk Officer may be reached by telephone at 202-395-4638.

A copy of the comments should also be sent to the Federal Energy Regulatory Commission and should refer to Docket No. IC09-567-001. Comments may be filed either electronically or in paper format. Those persons filing electronically do not need to make a paper filing. Documents filed electronically via the Internet must be prepared in an acceptable filing format and in compliance with the FERC submission guidelines. Complete filing instructions and acceptable filing formats are available at http://www.ferc.gov/help/submission-guide/electronic-media.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, an original and 2 copies of the comments should be submitted to the Federal Energy Regulatory Commission, Secretary of the Commission, 888 First Street, NE., Washington, DC 20426, and should refer to Docket No. IC09-567-001.

All comments may be viewed, printed or downloaded remotely via the Internet through FERC's homepage using the “eLibrary” link. For user assistance, contact fercolinesupport@ferc.gov or toll-free at (866) 208-3676 or for TTY, contact (202) 502-8659.

FOR FURTHER INFORMATION CONTACT: Ellen Brown may be reached by telephone at (202) 502-8663, by fax at (202) 273-0873, and by e-mail at ellen.brown@ferc.gov.

SUPPLEMENTARY INFORMATION: The FERC is requesting comments on the FERC-567,¹ Gas Pipeline Certificates: Annual Reports of System Flow Diagrams. FERC-567 is an existing data collection (OMB Control No. 1902-0005) consisting of a set of filing requirements, as contained in 18 CFR 260.8.

¹ FERC-567 was formerly known as “Gas Pipeline Certificates: Annual Reports of System Flow Diagrams and System Capacity”. The capacity reporting requirements under 18 CFR 284.13 had been inadvertently included under both the FERC-567 and the FERC-549B (“Gas Pipeline Rates: Capacity Information”; OMB Control No. 1902-0169). To correct the inadvertent `double-counting', the capacity reporting requirements under 18 CFR 284.13 are removed from FERC-567, and remain a part of FERC-549B for the purpose of OMB clearance. FERC-549B is not a subject of this Notice.

The information from the FERC-567 is used by the Commission staff to obtain accurate data on pipeline facilities and to validate the need for new facilities proposed by pipelines in certificate applications. In modeling a pipeline applicant's system, Commission staff utilizes the FERC-567 data to determine configuration and location of installed pipeline facilities; verify and determine the receipt and delivery points between shippers, producers and pipeline companies; determine the location of receipt and delivery points and emergency interconnections on a pipeline system; determine the location of pipeline segments, laterals and compressor stations on a pipeline system; verify pipeline segment lengths and pipeline diameters; justify the maximum allowable operating pressures and suction and discharge pressures at compressor stations; verify the installed horsepower and volumes compressed at each compressor station; determine the existing shippers and producers currently using each pipeline company; and develop and evaluate alternatives to the proposed facilities as a means to mitigate environmental impact of new pipeline construction.

18 CFR 260.8 requires each major natural gas pipeline with a system delivery capacity exceeding 100,000 Mcf per day to file, to submit by June 1 of each year, diagrams reflecting operating conditions on the pipeline's main transmission system during the previous 12 months ended December 31. These data are physical/engineering data which are not included as part of any other data collection requirement.

Action: The Commission is requesting a three-year extension of the current expiration date, with no change to the existing requirements.¹

Burden Statement: Annual reporting burden for this collection is estimated as:

FERC data collection | Number of respondents annually | Number of responses per respondent | Average burden hours per response | Total annual burden hours ²
| (1) | (2) | (3) | (1) × (2) × (3)
FERC-567 | 94 ³ | 1.714 | 81.28 | 13,095.5

The estimated annual cost burden ² to respondents is $807,747 (13,095.5 hours/2080 hours per year times $128,297 per year average per employee = $807,747). The estimated cost per respondent is $8,593.

² The burden and cost figures may not be exact, due to rounding. For these calculations, the number of hours an employee works each year is 2,080, and the average annual salary per employee is estimated to be $128,297.

³ An estimate of 100 respondents was included in the 60-day notice. That estimate has been updated here, based on the number of filings submitted in 2008.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization, rather than any one particular function or activity.

Comments are invited on: (1) Whether the proposed collection of information is necessary for the proper performance of the functions of the Commission, including whether the information will have practical utility; (2) the accuracy of the agency's estimates of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. E9-9709 Filed 4-28-09; 8:45 am]

BILLING CODE 6717-01-P